ENVIRONMENTAL PROTECTION AGENCY

[OECA-2004-0042; FRL-7916-8]

Agency Information Collection Activities; Submission for OMB Review and Approval; Comment Request; NESHAP for Coke Oven Batteries (Renewal); OMB Control Number 2060-0253; EPA ICR Number 1362.06

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on May 31, 2005. Under OMB regulations, the Agency may continue to conduct or sponsor the collection of information while this submission is pending at OMB. This ICR describes the nature of the information collection and its estimated burden and cost.

DATES: Additional comments may be submitted on or before June 23, 2005.

ADDRESSES: Submit your comments, referencing docket ID number OECA-2004-0042, to (1) EPA online using EDOCKET (our preferred method), by e-mail to docket.oeca@epa.gov, or by mail to: EPA Docket Center, Environmental Protection Agency, Enforcement and Compliance Docket and Information Center, Mail Code 2201T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division, Mail Code 2223A, Office of Compliance, Environmental Protection Agency, 1200 Pennsylvania Ave., NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On September 14, 2004 (69 FR 55430) EPA sought comments on this ICR pursuant to 5 CFR 1320.8(d). EPA received no comments.

EPA has established a public docket for this ICR under Docket ID No. OECA-2004-0042, which is available for public viewing at the Enforcement and Compliance Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Enforcement and Compliance Docket and Information Center is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Coke Oven Batteries (Renewal).

Abstract: The National Emissions Standards for Coke Oven Batteries were proposed on December 4, 1992, and promulgated on October 27, 1993. These standards apply to all coke oven batteries, whether existing, new, reconstructed, rebuilt or restarted. It also applies to all batteries using the conventional by-product recovery, the nonrecovery process, or any new recovery process. Under this rule, all existing batteries must choose a compliance track. Two compliance approaches are available under the rule: the “MACT (Maximum Achievable Control Technology) track,” and the “LAER (Lowest Achievable Emission Rate) extension track,” and straddling both tracks (until January 1, 1998). Applicability dates vary depending on the emission limitation the affected facility is subject to. This information is being collected to assure compliance with 40 CFR part 63, subpart L.

Owners or operators of coke oven batteries, whether existing, new, reconstructed, rebuilt or restarted, are required to comply with monitoring, recordkeeping and reporting requirements. Owners or operators of the affected facilities described must make one-time-only notifications to elect a compliance track and to certify initial compliance. Owners or operators are also required to maintain records of the occurrence and duration of any startup, shutdown, or malfunction in the operation of an affected facility, or any period during which the monitoring system is inoperative. Monitoring requirements specific to coke oven batteries provide information on the operation of the emissions control device and compliance with the visible emissions standard. Semiannual reports of compliance certifications are required. These notifications, reports, and records will be used by EPA and states to: (1) Identify batteries subject to the standards; (2) ensure that MACT and LAER are properly applied; and (3) ensure that daily monitoring and work practice requirements are implemented as required.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 1,754 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Plants with coke oven batteries using the conventional by-product recovery, the nonrecovery process, or any new recovery process.

Estimated Number of Respondents: 19.

Frequency of Response: Initial, semiannual, and on occasion.

Estimated Total Annual Hour Burden: 78,938 hours.

Estimated Annual Costs: $6,302,094, which includes $0 in Operations and Maintenance costs, $0 in Capital Expense, and $6,302,094 in Respondent Labor costs.

Changes in the Estimates: There is a decrease of 25,721 hours in the total estimated burden currently identified in the OMB Inventory of Approved ICR Burdens. This decrease in burden from the most recently approved ICR is due to a decrease in the number of plants with coke oven batteries. However, there was an estimated cost increase due to an increase in labor rates. There were no capital/startup and operation and maintenance costs associated with continuous emission monitoring for the renewal of the ICR, therefore, there is no change in this burden category.

Dated: May 10, 2005.
Oscar Morales,
Director, Collection Strategies Division.

[FR Doc. 05-10344 Filed 5-23-05; 8:45 am]

BILLING CODE 6560-50-P